DEPARTMENT OF THE INTERIOR

National Park Service

[NPS-WASO-NAGPRA-22422; PPWOCRADN0-PCU00RP14.R50000]

Notice of Inventory Completion: Peabody Museum of Natural History, Yale University, New Haven, CT

AGENCY: National Park Service, Interior.

ACTION: Notice.

SUMMARY: The Peabody Museum of Natural History has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Peabody Museum of Natural History. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Peabody Museum of Natural History at the address in this notice by January 3, 2017.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3003, of the completion of an inventory of human remains under the control of the Peabody Museum of Natural History, Yale University, New Haven, CT. The human remains were removed from a burial ground within one mile of Holy Cross Village, Yukon-Koyukuk Borough, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Peabody Museum of Natural History professional staff in consultation with a representative of Holy Cross Village. Multiple attempts to contact Anvik Village and Shageluk Native Village were unsuccessful.

History and Description of the Remains

In 1913, human remains representing, at minimum, one individual were removed from a burial ground located within one mile of Holy Cross, Yukon-Koyukuk Borough, AK. In 1931, the remains were obtained by the Yale Peabody Museum Alaska Expedition. The human remains represent one individual identified as a female, aged approximately 16-20 years old. No known individuals were identified. No associated funerary objects are present.

Archeological evidence, historic documentation, and tribal knowledge suggest the lower Yukon River region, including the location of the modern site of Holy Cross Village, was occupied both prehistorically and historically by the Deg Hit'an. The proximity of the burial to the modern site of Holy Cross Village as well as the continuity of culture exhibited in the region supports a cultural affiliation between the individual human remains and the Deg Hit'an of Holy Cross Village. The locality of the burial as well as the osteological data support the finding that these remains represent an individual of Native American ancestry.

Determinations Made by the Peabody Museum of Natural History, Yale University

Officials of the Peabody Museum of Natural History have determined that:

• Pursuant to 25 U.S.C. 3001(9), the human remains described in this notice represent the physical remains of one individual of Native American ancestry.

• Pursuant to 25 U.S.C. 3001(2), there is a relationship of shared group identity that can be reasonably traced between the Native American human remains and Holy Cross Village.

Additional Requestors and Disposition

Lineal descendants or representatives of any Indian tribe or Native Hawaiian organization not identified in this notice that wish to request transfer of control of these human remains should submit a written request with information in support of the request to Professor David Skelly, Director, Yale Peabody Museum of Natural History, P.O. Box 208118, New Haven, CT 06520-8118, telephone (203) 432-3752, by January 3, 2017. After that date, if no additional requestors have come forward, transfer of control of the human remains to Holy Cross Village may proceed.

The Peabody Museum of Natural History is responsible for notifying Holy Cross Village that this notice has been published.

Dated: November 15, 2016.
Melanie O'Brien,
Manager, National NAGPRA Program.

[FR Doc. 2016-28953 Filed 12-1-16; 8:45 am]

BILLING CODE 4312-52-P